DEPARTMENT OF THE INTERIOR

Office of the Secretary

25 CFR Ch. I

30 CFR Chs. II and VII

36 CFR Ch. I

43 CFR Subtitle A, Chs. I and II

48 CFR Ch. 14

50 CFR Chs. I and IV

[234D0102DM; DS6CS00000; DLSN00000.00000; DX6CS25]

Semiannual Regulatory Agenda

AGENCY: Office of the Secretary, Interior.

ACTION: Semiannual Regulatory Agenda.

SUMMARY: This notice provides the semiannual agenda of Department of the Interior (Department) rules scheduled for review or development between spring 2023 and spring 2024. The Regulatory Flexibility Act and Executive Order 12866 require publication of the agenda.

ADDRESSES: Unless otherwise indicated, all agency contacts are located at the Department of the Interior, 1849 C Street NW, Washington, DC 20240.

FOR FURTHER INFORMATION CONTACT: Please direct all comments and inquiries about these rules to the appropriate agency contact. Please direct general comments relating to the agenda to the Office of Executive Secretariat and Regulatory Affairs, Department of the Interior, at the address above or at (202) 513-0357.

SUPPLEMENTARY INFORMATION: With this publication, the Department satisfies the requirement of Executive Order 12866 that the Department publish an agenda of rules that we have issued or expect to issue and of currently effective rules that we have scheduled for review.

Simultaneously, the Department meets the requirement of the Regulatory Flexibility Act (5 U.S.C. 601 et seq.) to publish an agenda in April and October of each year identifying rules that will have significant economic effects on a substantial number of small entities. We have specifically identified in the agenda rules that will have such effects. The complete Unified Agenda will be published at www.reginfo.gov, in a format that offers users enhanced ability to obtain information from the Agenda database. Agenda information is also available at www.regulations.gov, the government-wide website for submission of comments on proposed regulations.

In some cases, the Department has withdrawn rules that were placed on previous agendas for which there has been no publication activity or for which a proposed or interim rule was published. There is no legal significance to the omission of an item from this agenda. Withdrawal of a rule does not necessarily mean that the Department will not proceed with the rulemaking. Withdrawal allows the Department to assess the action further and determine whether rulemaking is appropriate. Following such an assessment, the Department may determine that certain rules listed as withdrawn under this agenda are appropriate for promulgation.

Bivan R. Patnaik,
Deputy Director of Policy and Regulatory Affairs, Executive Secretariat and Regulatory Affairs.

Bureau of Safety and Environmental Enforcement—Proposed Rule Stage
Sequence No. | Title | Regulation Identifier No.
110 | Revisions to Decommissioning Requirements on the OCS | 1014-AA53
111 | Outer Continental Shelf Civil Penalties, Surety Bond Requirements When Filing an Appeal | 1014-AA57

Bureau of Safety and Environmental Enforcement—Final Rule Stage
Sequence No. | Title | Regulation Identifier No.
112 | Oil and Gas and Sulfur Operations in the Outer Continental Shelf-Blowout Preventer Systems and Well Control Revisions | 1014-AA52

Assistant Secretary for Land and Minerals Management—Completed Actions
Sequence No. | Title | Regulation Identifier No.
113 | Risk Management, Financial Assurance and Loss Prevention—Decommissioning Activities and Obligations | 1082-AA02

United States Fish and Wildlife Service—Proposed Rule Stage
Sequence No. | Title | Regulation Identifier No.
114 | Importation, Exportation and Transportation of Wildlife; Updates to the Regulations | 1018-BF16
115 | Migratory Bird Hunting; 2024-25 Migratory Game Bird Hunting Regulations | 1018-BG63

United States Fish and Wildlife Service—Final Rule Stage
Sequence No. | Title | Regulation Identifier No.
116 | Migratory Bird Hunting; 2023-24 Migratory Game Bird Hunting Regulations | 1018-BF64

National Park Service—Final Rule Stage
Sequence No. | Title | Regulation Identifier No.
117 | Commercial Visitor Services; Concession Contracts | 1024-AE57

Bureau of Ocean Energy Management—Long-Term Actions
Sequence No. | Title | Regulation Identifier No.
118 | Air Quality Rule | 1010-AE09

Bureau of Land Management—Proposed Rule Stage
Sequence No. | Title | Regulation Identifier No.
119 | Conservation and Landscape Health (Section 610 Review) | 1004-AE92
120 | Management and Protection of the National Petroleum Reserve in Alaska (Section 610 Review) | 1004-AE95

Bureau of Land Management—Final Rule Stage
Sequence No. | Title | Regulation Identifier No.
121 | Helium Contracts (Section 610 Review) | 1004-AE93
122 | Onshore Oil and Gas Operations—Annual Civil Penalties Inflation Adjustments (Section 610 Review) | 1004-AE94
123 | Application Procedures, Execution and Filing of Forms: Correction of State Office and Public Room Address for Filings and Recordings, Including Proper Offices for Recording of Mining Claims; Colorado (Section 610 Review) | 1004-AE96

DEPARTMENT OF THE INTERIOR (DOI)

Bureau of Safety and Environmental Enforcement (BSEE)

Proposed Rule Stage

110. Revisions to Decommissioning Requirements on the OCS [1014-AA53]

Legal Authority: Outer Continental Shelf Lands Act, 43 U.S.C. 1331 to 1356a

Abstract: This proposed rule would address issues relating to (1) idle iron by adding a definition of this term to clarify that it applies to idle wells and structures on active leases; (2) abandonment in place of subsea infrastructure by adding regulations addressing when BSEE may approve decommissioning-in-place instead of removal of certain subsea equipment; and (3) other operational considerations.

Timetable:

Action | Date | FR Cite
NPRM | 12/00/23
NPRM Comment Period End | 02/00/24

Regulatory Flexibility Analysis Required: Yes.

Agency Contact: Kirk Malstrom, Chief, Regulations and Standards Branch, Department of the Interior, Bureau of Safety and Environmental Enforcement, 45600 Woodland Road, Sterling, VA 20166, Phone: 703 787-1751, Fax: 703 787-1555, Email: kirk.malstrom@bsee.gov.

RIN: 1014-AA53

111. Outer Continental Shelf Civil Penalties, Surety Bond Requirements When Filing an Appeal [1014-AA57]

Legal Authority: Outer Continental Shelf Lands Act (OCSLA), 43 U.S.C. 1331 to 1356a

Abstract: This proposed rulemaking would clarify BSEE's existing regulatory authority under 30 CFR 250.1409, which establishes criteria that must be met before a party may proceed with an appeal of a civil penalty pursuant to 30 CFR part 290. Before filing an appeal to the Interior Board of Land Appeals (IBLA), an operator must either submit a surety bond to BSEE's sister agency, BOEM, in the amount of the penalty, or notify BOEM that they want their lease bond to be used as the bond for the penalty amount.

Timetable:

Action | Date | FR Cite
NPRM | 06/00/23
NPRM Comment Period End | 08/00/23
Final Action | 10/00/23
Final Action Effective | 01/00/24

Regulatory Flexibility Analysis Required: Yes.

Agency Contact: Kirk Malstrom, Chief, Regulations and Standards Branch, Department of the Interior, Bureau of Safety and Environmental Enforcement, 45600 Woodland Road, Sterling, VA 20166, Phone: 703 787-1751, Fax: 703 787-1555, Email: kirk.malstrom@bsee.gov.

RIN: 1014-AA57

DEPARTMENT OF THE INTERIOR (DOI)

Bureau of Safety and Environmental Enforcement (BSEE)

Final Rule Stage

112. Oil and Gas and Sulfur Operations in the Outer Continental Shelf-Blowout Preventer Systems and Well Control Revisions [1014-AA52]

Legal Authority: Not Yet Determined

Abstract: This rulemaking revises the Bureau of Safety and Environmental Enforcement (BSEE) regulations published in the 2019 final rule entitled “Oil and Gas and Sulfur Operations in the Outer Continental Shelf-Blowout Preventer Systems and Well Control Revisions,” 84 FR 21908 (May 15, 2019), for drilling, workover, completion and decommissioning operations. In accordance with Executive Order (E.O.) 13990 (Protecting Public Health and the Environment and Restoring Science to Tackle the Climate Crisis) and the E.O.'s accompanying “President's Fact Sheet: List of Agency Actions for Review,” BSEE reviewed the 2019 final rule and is updating to subpart G of 30 CFR part 250 to ensure operations are conducted safely and in an environmentally responsible manner.

Timetable:

Action | Date | FR Cite
NPRM | 09/14/22 | 87 FR 56354
NPRM Comment Period End | 11/14/22 |
Final Action | 06/00/23 |
Final Action Effective | 07/00/23 |

Regulatory Flexibility Analysis Required: Yes.

Agency Contact: Kirk Malstrom, Chief, Regulations and Standards Branch, Department of the Interior, Bureau of Safety and Environmental Enforcement, 45600 Woodland Road, Sterling, VA 20166, Phone: 703 787-1751, Fax: 703 787-1555, Email: kirk.malstrom@bsee.gov.

RIN: 1014-AA52

DEPARTMENT OF THE INTERIOR (DOI)

Assistant Secretary for Land and Minerals Management (ASLM)

Completed Actions

113. Risk Management, Financial Assurance and Loss Prevention—Decommissioning Activities and Obligations [1082-AA02]

Legal Authority: 43 U.S.C. 1334(a)

Abstract: On October 12, 2020, the Bureau of Ocean Energy Management (BOEM) and Bureau of Safety and Environmental Enforcement (BSEE) published the joint proposed rule in the Federal Register (85 FR 65904). BSEE continued to pursue this rulemaking as a BSEE-only final rule to revise policies and procedures concerning compliance with decommissioning obligations for Outer Continental Shelf (OCS) oil and gas. The final rule clarifies and streamline specific regulatory requirements associated with the operational and procedural aspects of applicable decommissioning responsibilities of OCS lessees and grant holders. BOEM will continue to evaluate and develop a comprehensive set of regulations to manage the risks and financial obligations associated with industry activities on the OCS and pursue these actions in a separate rulemaking under RIN 1010-AE14.

Timetable:

Action | Date | FR Cite
NPRM | 10/16/20 | 85 FR 65904
NPRM Comment Period End | 12/15/20 |
Final Action | 04/18/23 | 88 FR 23569
Final Action Effective | 05/18/23 |

Regulatory Flexibility Analysis Required: Yes.

Agency Contact: Bivan Patnaik, Deputy Director of Regulatory Affairs, Department of the Interior, Washington, DC 20240, Phone: 202 208-4582, Email: bivan_patnaik@ios.doi.gov.

RIN: 1082-AA02

DEPARTMENT OF THE INTERIOR (DOI)

United States Fish and Wildlife Service (FWS)

Proposed Rule Stage

114. Importation, Exportation and Transportation of Wildlife; Updates to the Regulations [1018-BF16]

Legal Authority: 16 U.S.C. 33 8(d)-(f); 16 U.S.C. 668; 16 U.S.C. 704; 16 U.S.C. 712; 16 U.S.C. 1382; 16 U.S.C. 1538(d)-(f); 16 U.S.C. 1540(f); 16 U.S.C. 3371 to 3378; 16 U.S.C. 4223 to 4244; 16 U.S.C. 4901 to 4916; 18 U.S.C. 42; 31 U.S.C. 42; 31 U.S.C. 9701; . . .

Abstract: This proposed rule would revise FWS's regulations governing the importation and exportation of wildlife. In this rulemaking, FWS would review all sections of 50 CFR part 14 and provide necessary revisions.

Timetable:

Action | Date | FR Cite
NPRM | 09/00/23 |

Regulatory Flexibility Analysis Required: Yes.

Agency Contact: Edward Grace, Assistant Director, Office of Law Enforcement, Department of the Interior, United States Fish and Wildlife Service, 5275 Leesburg Pike, MS: LEO, Falls Church, VA 22041-3803, Phone: 703 358-1949, Fax: 703 358-1947, Email: edward_grace@fws.gov.

RIN: 1018-BF16

115. Migratory Bird Hunting; 2024-25 Migratory Game Bird Hunting Regulations [1018-BG63]

Legal Authority: 16 U.S.C. 703 et seq.; 16 U.S.C. 742a-j

Abstract: This rulemaking action would establish annual hunting regulations for certain migratory game birds. FWS annually prescribes the frameworks, or outside limits, for season lengths, bag limits, and areas for migratory game bird hunting. After these frameworks are established, States and Tribes may select season dates, bag limits, and other regulatory options for their hunting seasons.

Timetable:

Action | Date | FR Cite
NPRM | 08/00/23 |

Regulatory Flexibility Analysis Required: Yes.

Agency Contact: Dr. Eric L. Kershner, Chief, Division of Conservation, Permits, and Regulations, Department of the Interior, United States Fish and Wildlife Service, 5275 Leesburg Pike, MS: MB, Falls Church, VA 22041, Phone: 703 358-2376, Fax: 703 358-2217, Email: eric_kershner@fws.gov.

RIN: 1018-BG63

DEPARTMENT OF THE INTERIOR (DOI)

United States Fish and Wildlife Service (FWS)

Final Rule Stage

116. Migratory Bird Hunting; 2023-24 Migratory Game Bird Hunting Regulations [1018-BF64]

Legal Authority: 16 U.S.C. 703 et seq.; 16 U.S.C. 742a-j

Abstract: This rulemaking action establishes annual hunting regulations for certain migratory game birds. FWS annually prescribes the frameworks, or outside limits, for season lengths, bag limits, and areas for migratory game bird hunting. After these frameworks are established, States and Tribes may select season dates, bag limits, and other regulatory options for their hunting seasons.

Timetable:

Action | Date | FR Cite
NPRM | 11/03/22 | 87 FR 66247
NPRM Comment Period End | 12/05/22 |
Proposed Frameworks | 01/30/23 | 88 FR 6054
Proposed Frameworks; Comment Period End | 03/01/23 |
Proposed Tribal Regulations | 03/23/23 | 88 FR 17511
Proposed Tribal Regulations; Comment Period Ends | 05/08/23 |
Final Frameworks | 07/00/23 |
Final Tribal Regulations | 08/00/23 |
Seasons and Bag Limits | 08/00/23 |

Regulatory Flexibility Analysis Required: Yes.

Agency Contact: Dr. Eric L. Kershner, Chief, Division of Conservation, Permits, and Regulations, Department of the Interior, United States Fish and Wildlife Service, 5275 Leesburg Pike, MS: MB, Falls Church, VA 22041, Phone: 703 358-2376, Fax: 703 358-2217, Email: eric_kershner@fws.gov.

RIN: 1018-BF64

DEPARTMENT OF THE INTERIOR (DOI)

National Park Service (NPS)

Final Rule Stage

117. Commercial Visitor Services; Concession Contracts [1024-AE57]

Legal Authority: 54 U.S.C. 101926

Abstract: This final rule will revise regulations that govern the solicitation, award, and administration of concessions contracts to provide commercial visitor services at NPS units under the authority granted through the Concessions Management Improvement Act of 1998. The changes will reduce administrative burdens and expand sustainable, high quality, and contemporary concessioner-provided visitor services in national parks.

Timetable:

Action | Date | FR Cite
NPRM | 07/20/20 | 85 FR 43775
NPRM Comment Period End | 09/18/20 |
Final Rule | 07/00/23 |

Regulatory Flexibility Analysis Required: Yes.

Agency Contact: Kurt M. Rausch, Chief, Contract Management, Department of the Interior, National Park Service, 1849 C Street NW, Washington, DC 20240, Phone: 202 513-7207, Email: kurt_rausch@nps.gov.

RIN: 1024-AE57

DEPARTMENT OF THE INTERIOR (DOI)

Bureau of Ocean Energy Management (BOEM)

Long-Term Actions

118. Air Quality Rule [1010-AE09]

Legal Authority: OCSLA sec. 5(a)(8)

Abstract: This proposed rule would identify opportunities for clarifying air quality regulations.

Timetable:

Action | Date | FR Cite
NPRM | To Be Determined

Regulatory Flexibility Analysis Required: Yes.

Agency Contact: Karen Thundiyil, Chief, Office of Regulations, Department of the Interior, Bureau of Ocean Energy Management, 1849 C Street NW, Washington, DC 20240, Phone: 202 742-0970, Email: karen.thundiyil@boem.gov.

RIN: 1010-AE09

DEPARTMENT OF THE INTERIOR (DOI)

Bureau of Land Management (BLM)

Proposed Rule Stage

119. Conservation and Landscape Health (Section 610 Review) [1004-AE92]

Legal Authority: 43 U.S.C. 1732(a)

Abstract: This final rule will clarify and support the principles of multiple use and sustained yield in the management of the public lands. This rule would incorporate climate resiliency and restoration through conservation and preservation in the management of the public lands. Under authority provided in the Federal Land Policy and Management Act (FLPMA), including section 102(a)(8) (43 U.S.C. 1701(a)(8)), and other relevant authorities, this rule will incorporate climate resiliency and restoration through conservation, defined as protection and restoration, in the management of the public lands pursuant to the FLPMA. As part of identifying uses and tools to carry out restoration and mitigation activities, the rule will apply land health standards to all renewable resources and identify conservation leases as a tool that BLM will further define, including based on public and stakeholder comments through the NPRM.

This rule rests within 43 CFR 6000, which includes Conservation and Preservation, and would provide an overarching framework governing multiple resource areas to ensure land health and sustained yield. This rule will affirm existing policy direction for restoration and conservation actions in building and maintaining sustainable land management practices to ensure healthy and productive ecosystems for current and future generations.

Timetable:

Action | Date | FR Cite
NPRM | 04/03/23 | 88 FR 19583
NPRM Comment Period End | 06/20/23 |
Final Action | 12/00/23 |

Regulatory Flexibility Analysis Required: Undetermined.

Agency Contact: Brian St. George, Acting Assistant Director, Directorate of Resources and Planning, Department of the Interior, Bureau of Land Management, 1849 C Street NW, Washington, DC 20240, Phone: 202 239-3741, Email: bstgeorge@blm.gov.

RIN: 1004-AE92

120. • Management and Protection of the National Petroleum Reserve in Alaska (Section 610 Review) [1004-AE95]

Legal Authority: Naval Petroleum Reserves Production Act of 1976 (42 U.S.C. 6501 to 6508)

Abstract: This proposed rule would assure maximum protection of Special Areas in the NPR-A pursuant to and consistent with the provisions of the Naval Petroleum Reserves Production Act of 1976 (90 Stat. 303; 42 U.S.C. 6501 et seq.), Alaska National Interest Lands Conservation Act, and other applicable authorities.

Timetable:

Action | Date | FR Cite
NPRM | 06/00/23 |
Final Action | 01/00/24 |

Regulatory Flexibility Analysis Required: Undetermined.

Agency Contact: Kyle W. Moorman, Division Chief for Regulatory Affairs and Directives, Department of the Interior, Bureau of Land Management, 1849 C Street NW, Washington, DC 20240, Phone: 202 527-2433, Email: kmoorman@blm.gov.

RIN: 1004-AE95

DEPARTMENT OF THE INTERIOR (DOI)

Bureau of Land Management (BLM)

Final Rule Stage

121. Helium Contracts (Section 610 Review) [1004-AE93]

Legal Authority: 50 U.S.C. 167d (d)(1)

Abstract: In accordance with the Helium Stewardship Act of 2013, the Bureau of Land Management (BLM) is no longer conducting the Federal in-kind program, whereby Federal users purchase helium from third parties who then purchased that same amount of helium from BLM. This final rule will update BLM's regulations to reflect those changes.

Timetable:

Action | Date | FR Cite
Final Action | 10/00/23 |

Regulatory Flexibility Analysis Required: No.

Agency Contact: Amy Hay, Division Chief, Division of Business Resources, Department of the Interior, Bureau of Land Management, Denver Federal Center, Building 50, Denver, CO 80225-0047, Phone: 703 870-8844, Email: ahay@blm.gov.

RIN: 1004-AE93

122. • Onshore Oil and Gas Operations-Annual Civil Penalties Inflation Adjustments (Section 610 Review) [1004-AE94]

Legal Authority: Federal Land Policy and Management Act of 1976 (FLPMA), 43 U.S.C. 1734

Abstract: This final rule adjusts the level of civil monetary penalties contained in the BLM's regulations governing onshore oil and gas operations and coal trespass as required by the Federal Civil Penalties Inflation Adjustment Act Improvements Act of 2015. This annual rule replaces the previously issued amounts with the updated amounts after using the inflation adjustment multiplier provided by the Office of Management and Budget.

Timetable:

Action | Date | FR Cite
Final Action | 09/00/23 |

Regulatory Flexibility Analysis Required: No.

Agency Contact: Kyle W. Moorman, Division Chief for Regulatory Affairs and Directives, Department of the Interior, Bureau of Land Management, 1849 C Street NW, Washington, DC 20240, Phone: 202 527-2433, Email: kmoorman@blm.gov.

RIN: 1004-AE94

123. • Application Procedures, Execution and Filing of Forms: Correction of State Office and Public Room Address for Filings and Recordings, Including Proper Offices for Recording of Mining Claims; Colorado (Section 610 Review) [1004-AE96]

Legal Authority: 5 U.S.C. 552; 43 U.S.C. 2; 43 U.S.C. 1201; 43 U.S.C. 1733 and 1740

Abstract: This final rule updates Bureau of Land Management's (BLM) regulations pertaining to execution and filing of forms in order to reflect the new addresses for the BLM-Colorado State Office and its Public Room.

Timetable:

Action | Date | FR Cite
Final Action | 06/00/23 |

Regulatory Flexibility Analysis Required: No.

Agency Contact: Jennnifer Bednar, Deputy State Director, Colorado State Office, Department of the Interior, Bureau of Land Management, 2850 Youngfield Street, Fairfield, CO 80215, Phone: 303 239-3801, Email: jbednar@blm.gov.

RIN: 1004-AE96

[FR Doc. 2023-14546 Filed 7-26-23; 8:45 am]

BILLING CODE 4334-63-P